AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before March 3, 2014.

FOR FURTHER INFORMATION CONTACT: Sylvia Joyner, Bureau for Management, Office of Management Services, Information and Records Division, U.S. Agency for International Development, Room 2.07C, RRB, Washington, DC 20523, (202) 712-5007 or via email sjoyner@usaid.gov.

ADDRESSES: Send comments via email at lwinston@usaid.gov, United States Agency for International Development, Bureau for Management, Office of Management Services, Information and Records Division, Ronald Reagan Building, 1300 Pennsylvania Avenue NW., Washington, DC 20523, 202-712-4832.

SUPPLEMENTARY INFORMATION: OMB No: OMB 201312-0412-001.

Form No: AID 507-1.

Title: Freedom of Information/Privacy Act Record Request Form.

Type of Review: New Information Collection.

Purpose: The purpose of the collection is to enable the U.S. Agency for International Development to locate applicable records and to respond to requests made under the Freedom of Information Act and the Privacy Act of 1974. Information includes sufficient personally identifiable information and/or source documents as applicable. Failure to provide the required information may result in no action being taken on the request. Information provided by a requester will be used to locate and provide the requester responsive records pursuant to the Freedom of Information Act (5 U.S.C. 552), and/or the Privacy Act of 1974 (5 U.S.C. 552a). Authority to collect this information is contained in 5 U.S.C. 552, 5 U.S.C. 552a, and 22 CFR 215.4.

Annual Reporting Burden:

Respondents: 600.

Total annual responses: 600.

Total annual hours requested: 9,000 hours.

Dated: December 24, 2013.
Lynn Winston,
Division Chief, Bureau for Management, Office of Management Services, Information and Records Division.

[FR Doc. 2013-31392 Filed 12-31-13; 8:45 am]

BILLING CODE 6116-02-P